NATIONAL SCIENCE FOUNDATION

Advisory Committee for Engineering; Notice of Meeting

In accordance with Federal Advisory Committee Act (Pub. L. 92-463, as amended), the National Science Foundation announces the following meeting:

Name: Engineering Advisory Committee Meeting #1170

Date/Time: April 23, 2014: 8:30 a.m. to 5:30 p.m. April 24, 2014: 8:30 a.m. to 2:30 p.m.

Place: National Science Foundation, 4201 Wilson Boulevard, Suite 1235, Arlington, Virginia 22230

Type of Meeting: Open.

Contact Person: Deborah Young, National Science Foundation, 4201 Wilson Boulevard, Suite 505, Arlington, Virginia 22230; 703-292-8300

Purpose of Meeting: To provide advice, recommendations and counsel on major goals and policies pertaining to engineering programs and activities.

Agenda:

Wednesday, April 23, 2014 8:30 a.m. to 5:30 p.m.

• Review Recommendations of Recent Advisory Committee Meetings

• Directorate for Engineering Update

• Assistant Director Discussion on Convergence

• Transparency and Accountability

• Service Innovation

• RIPS

• 2-DARE (Emerging Frontiers in Research and Innovation)

• Industrial Innovation and Partnerships Committee of Visitors Report

Thursday, April 24, 2014 8:30 a.m.-2:30 p.m.

• Perspectives from the Office of the Director

• NSF Strategic Plan

• IUSE—EHR and RED—EEC

• Engineering Education and Centers Committee of Visitors Report

• AdCom Member Topics

• Closing Remarks, and Wrap Up

Dated: March 20, 2014.
Suzanne Plimpton,
Acting Committee Management Officer.

[FR Doc. 2014-06477 Filed 3-24-14; 8:45 am]

BILLING CODE 7555-01-P